DEPARTMENT OF THE INTERIOR

Bureau of Land Management

[OR-930-6310-DR-WOPR; HAG-09-0045]

Notice of Availability of the Records of Decision of the Resource Management Plans of the Western Oregon Bureau of Land Management Salem, Eugene, Roseburg, Coos Bay, and Medford Districts, and the Klamath Falls Resource Area of the Lakeview District

AGENCY: Bureau of Land Management, Interior.

ACTION: Notice of availability.

SUMMARY: In accordance with the National Environmental Policy Act (NEPA), the Federal Land Policy and Management Act (FLPMA), and the Bureau of Land Management (BLM) policies, the BLM announces the availability of the Records of Decision (RODs) for the Approved Resource Management Plans of the Salem, Eugene, Roseburg, Coos Bay, and Medford Districts, and the Klamath Falls Resource Area of the Lakeview District in western Oregon. The Assistant Secretary, Land and Minerals Management, signed the RODs on December 30, 2008, which constitutes the final decision of the Secretary of the Interior. The Approved Resource Management Plans (RMPs) are effective immediately.

ADDRESSES: Copies of the RODs will be sent to affected federal, state, and local government agencies, and to tribal governments. Interested persons may review the RODs on the Internet at http://www.blm.gov/or/plans/wopr/index.php. Copies of the RODs will be available for public inspection at the Salem, Eugene, Roseburg, Coos Bay, and Medford District offices and the Grants Pass, Klamath Falls and Tillamook Resource Area offices.

FOR FURTHER INFORMATION CONTACT: Jerry Hubbard, Western Oregon Plan Revisions Public Outreach Coordinator; at (503) 808-6115.

SUPPLEMENTARY INFORMATION: The BLM has analyzed revisions of six Resource Management Plans with a single Final Environmental Impact Statement (FEIS). The FEIS describes four alternatives, including the Proposed RMP alternative, for managing approximately 2,550,000 acres of federal land within the western Oregon planning area, most of which are Oregon and California Railroad and Coos Bay Wagon Road Grant lands.

The major resource management issues addressed in the Approved RMPs include:

• Providing a sustainable supply of wood and other forest products, as mandated by the Oregon and California Lands Act of 1937, while also meeting other applicable laws.

• Providing for conservation of species listed under the Endangered Species Act.

• Contributing to meeting the goals of the Clean Water Act and the Safe Drinking Water Act.

• Reducing wildfire hazard and integrating fire back into the ecosystem.

The Notice of Availability of the Draft Environmental Impact Statement (DEIS) was published in the Federal Register on August 10, 2007. During the planning process over 170 meetings were offered and nearly 30,000 comment letters were received during the comment period. Comments received on the DEIS were important in shaping the Approved RMPs. The Approved RMPs are based on Alternative 2 from the DEIS, but include portions of the other alternatives in the DEIS.

Some of the key changes include:

• Including wider Riparian Management Areas, as described in Alternative 1 of the DEIS.

• Reconfiguring Late Successional Management Areas to match the Final Northern Spotted Owl Recovery Plan.

• Deferring harvest for 15 years in older and more structurally complex multi-layered conifer stands in the Timber Management Area to be consistent with the Final Northern Spotted Owl Recovery Plan.

• Using uneven-aged management from Alternative 3 in the southern Medford District and Klamath Falls Resource Area to decrease fire hazard and increase fire resiliency.

The Notice of Availability of the FEIS/PRMP was published in the Federal Register on October 17, 2008. The Governor's consistency review period ended on December 8, 2008. The Governor did not identify any inconsistency between the Proposed RMP (PRMP) and approved resource related plans, and the policies or programs contained therein, of State or local governments or offer any specific recommendation to change the plan to address a finding of inconsistency with State or local plans. The Governor did identify concerns with the PRMP which were addressed by the BLM State Director, Oregon/Washington.

A protest period for the PRMP was provided between November 7 and December 8, 2008. Two hundred and sixty four protests were received on the PRMP during the protest period. A minor change resulted from resolution of the protests: Two small parcels purchased with Land and Water Conservation Funds were added to an Area of Critical Environmental Concern in the Salem RMP. Additional minor editorial modifications were made in preparing the Approved RMPs to provide further clarification of some of the decisions. Through its protest resolution process, the BLM has determined that the PRMP complies with applicable laws, regulations, and policies.

The plan does not include any implementation level decisions. When the BLM proposes to take an action on lands managed under the revised plans, any party to a case adversely affected by that decision may appeal such decision to the Interior Board of Land Appeals in accordance with regulations found at 43 CFR Part 4.

Edward W. Shepard,
State Director, Oregon/Washington, Bureau of Land Management.

[FR Doc. E9-103 Filed 1-7-09; 8:45 am]

BILLING CODE 4310-33-P